DEPARTMENT OF COMMERCE

International Trade Administration

A-570-912

Certain New Pneumatic Off-the-Road Tires From the People's Republic of China: Postponement of Preliminary Determination of Antidumping Duty Investigation

AGENCY: Import Administration, International Trade Administration, Department of Commerce.

DATES: Effective Date: December 26, 2007.

FOR FURTHER INFORMATION CONTACT: Contact Laurel LaCivita at (202) 482-4243 or Charles Riggle at(202) 482-0650, AD/CVD Operations, Office 8, Import Administration, International Trade Administration, U.S. Department of Commerce, 14th Street and Constitution Avenue, NW., Washington, DC 20230.

SUPPLEMENTARY INFORMATION:

Background

On August 6, 2007, the Department of Commerce (“Department”) published the initiation of the antidumping duty investigation of certain new pneumatic off-the-road tires from the People's Republic of China (“PRC”). See Initiation of Antidumping Duty Investigation: Certain New Pneumatic Off-the-Road Tires From the People's Republic of China, 72 FR 43591 (August 6, 2007) (“Notice of Initiation”). The notice of initiation stated that we would make our preliminary determination for this antidumping duty investigation no later than 140 days after the date of issuance of the initiation. Currently, the preliminary determination is due December 17, 2007.

Postponement of Preliminary Determination

On November 15, 2007, the Titan Tire Corporation, a subsidiary of Titan International, Inc. (“Titan”), and the United Steel, Paper and Forestry, Rubber, Manufacturing, Energy, Allied Industrial and Service Workers International Union, AFL-CIO-CLC (“USW”) (collectively, “Petitioners”), made a timely request pursuant to 19 CFR 351.205(e) for a 50-day postponement of the preliminary determination. Petitioners requested postponement of the preliminary determination because it will provide the Department additional time to evaluate the questionnaire responses. Petitioners argue that issues have emerged concerning potential PRC government involvement in the export and other commercial activities of certain of certain respondents. Finally, Petitioners argue that if the Department issues supplemental questionnaires to the mandatory respondents and the separate-rates companies, those responses would be due in December, which would not provide the Department or the parties sufficient time for analysis and comment, or permit the Department to issue further supplemental questionnaires prior to the currently scheduled December 17, 2007, preliminary determination.

Under section 733(c)(1)(A) of the Tariff Act of 1930, as amended (“the Act”), if Petitioners make a timely request for a postponement of the preliminary determination, the Department may postpone the preliminary determination under subsection (b)(1) until no later than the 190th day after the initiation of the investigation.

Therefore, for reasons identified by Petitioners, we are postponing the preliminary determination under section 733(c)(1)(A) of the Act by 50 days to February 5, 2008. Pursuant to 735(a) of the Act, the deadline for the final determination will continue to be 75 days after the date of the preliminary determination, or if extended, up to 135 days after the date of publication of the preliminary determination in the Federal Register.

This notice is issued and published pursuant to sections 733(c)(2) of the Act and 19 CFR 351.205(f)(1).

Dated: November 29, 2007.
David M. Spooner,
Assistant Secretary for Import Administration.

[FR Doc. 07-5968 Filed 12-21-07; 8:45 am]

BILLING CODE 3510-DS-M